DEPARTMENT OF TRANSPORTATION

National Highway Traffic Safety Administration

49 CFR Part 535

[NHTSA 2010-0079; EPA-HQ-OAR-2010-0162; FRL-9455-1]

RIN 2127-AK74

Greenhouse Gas Emissions Standards and Fuel Efficiency Standards for Medium- and Heavy-Duty Engines and Vehicles

AGENCY: National Highway Traffic Safety Administration (NHTSA), Department of Transportation (DOT).

ACTION: Correcting amendments.

SUMMARY: This document contains corrections to the final rule regulations (49 CFR 535.6), which were published in the Federal Register of Thursday, September 15, 2011 (76 FR 57106). The regulations established fuel efficiency standards for medium- and heavy-duty engines and vehicles, as prescribed under the Energy Independence and Security Act (49 U.S.C. 32902(k)(2)).

DATES: Effective Date: November 14, 2011.

FOR FURTHER INFORMATION CONTACT: Lily Smith, Office of Chief Counsel, National Highway Traffic Safety Administration, 1200 New Jersey Avenue, SE., Washington, DC 20590. Telephone: (202) 366-2992.

SUPPLEMENTARY INFORMATION:

Background

NHTSA and EPA published in the Federal Register of September 15, 2011, final rules to establish a comprehensive Heavy-Duty National Program that will increase fuel efficiency and reduce greenhouse gas emissions for on-road heavy-duty vehicles, responding to the President's directive on May 21, 2010, to take coordinated steps to produce a new generation of clean heavy-duty vehicles.

Need for Correction

As published, the final regulations inadvertently contained incorrect conversion factors for determining fuel consumption values that resulted from a typographical error. The correct value that should have been used in the document is a factor of 8,887 grams of CO2 per gallon of gasoline for conversion of gasoline fuel. The preamble text is not affected.

List of Subjects in 49 CFR Part 535

Fuel efficiency.

Accordingly, 49 CFR part 535 is corrected by making the following correcting amendments:

PART 535—MEDIUM- AND HEAVY-DUTY VEHICLES

1. The authority citation for part 535 continues to read as follows:

Authority: 49 U.S.C. 32902; delegation of authority at 49 CFR 1.50.

2. Revise paragraphs (a)(4)(ii) and (c)(4)(ii) of § 535.6 to read as follows:

§ 535.6 Measurement and calculation procedures.

* * * * *

(a) * * *

(4) * * *

(ii) Calculate the equivalent fuel consumption test group results as follows for spark-ignition vehicles and alternative fuel spark-ignition vehicles. CO2 emissions test group result (grams per mile)/8,887 grams per gallon of gasoline fuel) × (10²) = Fuel consumption test group result (gallons per 100 mile).

* * * * *

(c) * * *

(4) * * *

(ii) Calculate equivalent fuel consumption FCL values for spark-ignition engines and alternative fuel spark-ignition engines. CO2 FCL value (grams per bhp-hr)/8,887 grams per gallon of gasoline fuel) × (10²) = Fuel consumption FCL value (gallons per 100 bhp-hr).

* * * * *

Issued: September 22, 2011.
Christopher J. Bonanti,
Associate Administrator for Rulemaking, National Highway Traffic Safety Administration, Department of Transportation.

[FR Doc. 2011-24978 Filed 9-27-11; 8:45 am]

BILLING CODE 4910-59-P